DEPARTMENT OF TRANSPORTATION

Federal Aviation Administration

Cargo Restraint Strap Assemblies

AGENCY: Federal Aviation Administration (FAA), DOT.

ACTION: Notice of availability and request for public comment.

SUMMARY: This notice announces the availability of, and requests comment on draft Technical Standard Order (TSO) C-172, Cargo Restraint Strap Assemblies. This draft TSO tells persons seeking a TSO authorization or letter of design approval what minimum performance standards (MPS) their Cargo Restraint Strap Assemblies must meet to be identified with the appropriate TSO marking.

DATES: Comments must be received on or before January 27, 2006.

ADDRESSES: Send all comments on this proposed TSO to: Federal Aviation Administration (FAA), Aircraft Certification Service, Aircraft Engineering Division, Technical Programs and Continued Airworthiness Branch (AIR-120), 800 Independence Avenue, SW., Washington, DC 20591. ATTN: Mr. Jan Risheim. Or, you may deliver comments to: Federal Aviation Administration, Room 815, 800 Independence Avenue, SW., Washington, DC 20591.

FOR FURTHER INFORMATION CONTACT: Mr. Jan Risheim, AIR-120, Room 815, Federal Aviation Administration, 800 Independence Avenue, SW., Washington, DC 20591. Telephone (425) 227-2209, fax (425) 227-1181.

SUPPLEMENTARY INFORMATION:

Comments Invited

You are invited to comment on the proposed TSO by submitting written data, views, or arguments to the above address. Comments received may be examined, both before and after the closing date, in room 815 at the above address, weekdays except federal holidays, between 8:30 a.m. and 4:30 p.m. The Director, Aircraft Certification Service, will consider all comments received on or before the closing date before issuing the final TSO.

Background

Cargo restraint strap assemblies are generally used to restrain cargo loaded onto pallets for transport in the cargo hold of aircraft. Cargo restrain strap assemblies are available from commercial sources but generally do not carry an FAA design or production approval. This proposed TSO tells persons seeking a TSO authorization or letter of design approval what minimum performance standards their cargo restraint strap assemblies must first meet in order to obtain approval and be identified with the applicable TSO marking. The TSO marking provides evidence of an FAA design and production approval to the minimum performance standard identified in the proposed TSO.

How To Obtain Copies

You can view or download the draft TSO from its online location at: http://www.faa.gov/aircraft/draft_docs/. At this Web page, select “Technical Standard Orders.” At the TSO page, select “Proposed TSOs.” For a paper copy, contact the person listed in FOR FURTHER INFORMATION CONTACT. Note, SAE International documents are copyrighted and may not be reproduced without the written consent of SAE International. You may purchase copies of SAE International documents from: SAE International, 400 Commonwealth Drive, Warrendale, PA 15096-0001, or directly from their Web site: http://www.sae.org/.

Issued in Washington, DC, on December 5, 2005.
Susan J.M. Cabler,
Assistant Manager, Aircraft Engineering Division, Aircraft Certification Service.

[FR Doc. 05-23934 Filed 12-12-05; 8:45 am]

BILLING CODE 4910-13-M